DEPARTMENT OF TRANSPORTATION

National Highway Traffic Safety Administration

[U.S. DOT Docket No. NHTSA-2017-0048]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes an Information Collection Request (ICR) for which NHTSA intends to seek OMB approval.

DATES: Comments must be submitted on or before October 10, 2017.

ADDRESSES: You may submit comments identified by DOT Docket ID Number NHTSA-2017-0048 using any of the following methods:

Electronic Submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Randolph Atkins, Ph.D., Contracting Officer's Representative, Office of Behavioral Safety Research (NTI-131), National Highway Traffic Safety Administration, 1200 New Jersey Ave. SE., W46-500, Washington, DC, 20590. Dr. Atkins' phone number is 202-366-5597 and his email address is randolph.atkins@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks for public comment on the following proposed collection of information:

Title: Compliance-Based Ignition Interlock Removal.

Type of Request: New information collection request.

OMB Clearance Number: None.

Form Number: NHTSA Form 1395.

Requested Expiration Date of Approval: 3 years from date of approval.

Summary of the Collection of Information—The National Highway Traffic Safety Administration (NHTSA) proposes to collect information from 31 States that have policies for the compliance-based removal (CBR) of alcohol ignition interlock devices (AIIDs). The study will be conducted in two phases. In phase one, information will be collected on the details of the States' implementation of CBR and information on their CBR-related data to identify States with sufficient data to conduct an evaluation of the effects of CBR on DUI recidivism. It will also identify States' interested in participating in an evaluation of CBR effectiveness. We anticipate that information will come from State officials familiar with their States' interlock programs. It may also be necessary to collect data from interlock providers in those States. We estimate that this phase of data collection will involve contacting and interviewing an average of three people per State (93 total). Initial contacts will be made by telephone and email. Data will then be collected through semi-structured face-to-face and telephone interviews. The second phase of the study will be an evaluation of CBR effectiveness using the States' existing data. These evaluations will be conducted in up to four States, depending on phase one findings regarding data availability and interest in participation.

Description of the Need for the Information and Proposed Use of the Information—NHTSA was established by the Highway Safety Act of 1970 (23 U.S.C. 101) to carry out a Congressional mandate to reduce the number of deaths, injuries, and economic losses resulting from motor vehicle crashes on the Nation's highways. NHTSA is authorized to conduct research as a foundation for the development of motor vehicle standards and traffic safety programs.

Alcohol impairment is one of the primary causes of motor vehicle crashes on the Nation's highways. In 2015, 29 percent of all motor-vehicle traffic fatalities involved alcohol impairment, resulting in the loss of 10,265 lives. A vehicle equipped with an AIID requires the driver to provide a breath sample to start the vehicle. If the breath sample is above a set limit for Breath Alcohol Concentration (BrAC), then the vehicle will not start. AIIDs have been shown to reduce driving-under-the-influence (DUI) recidivism of DUI offenders who have AIIDs installed on their vehicles; however, the effect tends to dissipate once the devices are removed. The data generated by the AIIDs can be used to identify offenders unable to comply with interlock program requirements. It is believed that these are the offenders most likely to recidivate. CBR programs are designed to reduce recidivism by delaying removal of the AIID for these offenders.

The purpose of the study is to provide critical information needed by NHTSA to determine the effects of CBR on DUI recidivism, as well as information on the types of CBR policies currently in place. This information will be useful to States interested in instituting or changing CBR policies in their own interlock programs, to help reduce deaths and injuries associated with DUI. The data collected will be used to assist NHTSA in its ongoing responsibilities for: (a) Developing an accurate understanding of potential traffic safety interventions on a national scale; (b) providing information to NHTSA's partners involved in improving public safety; and (c) providing sound scientific reports on NHTSA's activities to other public safety researchers.

Description of the Likely Respondents (Including Estimated Number, and Proposed Frequency of Response to the Collection of Information)—NHTSA has identified 31 States that conduct some type of CBR of AIIDs. The number of participants will vary for each State. We estimate an average of three participants per State. Most participants will be State officials and these individuals will provide the majority of the necessary information for each State. We anticipate that in some instances State officials will refer us to representatives of interlock providers to obtain data not available to the State official. The data to be collected is administrative in nature. No personally identifiable data will be collected. We will not be collecting data that is commonly considered sensitive or private.

Estimate of the Total Annual Reporting and Record Keeping Burden Resulting from the Collection of Information—The total estimated annual burden is approximately 46.5 hours for the information collection. NHTSA estimates that for the 31 states identified, an average of approximately 60 minutes per state will be needed to obtain the information necessary (1860 minutes total). These data collection activities will be used to gain as complete an understanding of the CBR programs in each state as possible. A report will be created for each state and shared with state officials to verify its accuracy. NHTSA estimates 60 minutes to read and correct the report and return it by email (1860 minutes total). In many States more than one individual will review the report. NHTSA estimates an average of two individuals from each state to read and correct the report and return it by email. In total, NHTSA estimates a total burden of 3720 minutes, or 62 hours, for participants in States to provide the necessary information.

Authority: 44 U.S.C. Section 3506(c)(2)(A)

Issued in Washington, DC on August 4, 2017.
Jeff Michael,
Associate Administrator, Research and Program Development.

[FR Doc. 2017-16785 Filed 8-8-17; 8:45 am]

BILLING CODE 4910-59-P